DEPARTMENT OF HOUSING AND URBAN DEVELOPMENT

[Docket No. FR-4649-N-15]

Notice of Proposed Information Collection: Comment Request; Technical Assistance for Community Planning and Development Programs

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: June 8, 2001.

ADDRESSES: Interested persons are invited to submit comments regarding this proposal. Comments should refer to the proposal by name and/or OMB Control Number and should be sent to: Shelia E. Jones, Reports Liaison Officer, Department of Housing and urban Development, 451 7th Street, SW., Room 7230, Washington DC 20410.

FOR FURTHER INFORMATION CONTACT: Penny McCormack, (202) 708-3176, ext. 4391 (this is not a toll-free number).

SUPPLEMENTARY INFORMATION: The Department is submitting the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Technical Assistance For Community Planning and Development Programs.

OMB Control Number, if applicable: 2506-0166.

Description of the need for the information and proposed use: Application information is needed to determine competition winners, i.e., those technical assistance (TA) providers best able to offer local jurisdictions an ability to shape their CPD resources and other available resources into effective, coordinated, neighborhood and community development strategies to revitalize and physically, socially and economically strengthen their communities. The application for the competition requires the completion of Standard Forms 424, 424B, LLL (if engaged in lobbying), HUD Forms 424M, 50070, 50071, 2880 and 2992, as well as supplementary information such as a transmittal letter, identification of field offices to be served and amounts of funds requested for each field office, a statement as to the use of pass-through funds and qualification as a primarily single-State provider, a narrative statement addressing the factors for award, and a budget summary for each program. After awards are made, providers are required to submit a work plan which includes a planned schedule for accomplishing each of the planned activities/tasks to be accomplished with TA funds, the amount of funds budgeted for each activity/task and the staff and other resources allocated to each activity/task. Narrative quarterly reports are required so that the provider's performance can be evaluated and measured against the workplan. Quarterly reports also require the submission of the SF 269A, a financial status report. A narrative final report and final SF 269A are also required.

Agency form numbers, if applicable: SF-424, SF-424B, SF-LLL, HUD-424M, HUD-50070, HUD-50071, HUD-2880 and HUD 2992.

Members of affected public: Organizations or State and local governments equipped to provide technical assistance to recipients of CPD programs.

Estimation of the total numbers of hours needed to prepare the information collection including number of respondents, frequency of response, and hours of response: The FY 2000 Notice of Funding Availability (NOFA) for technical assistance providers for CPD programs elicited approximately 152 responses. It is anticipated that approximately the same number will respond to the current NOFA. Awards were made to 55 providers and it is expected that approximately the same number will be awarded during this round of funding. The Department estimates that each applicant will require an average of 60 hours to prepare an application. Winners of the competition will be required to develop a work plan, requiring approximately eight hours, submit quarterly reports needing approximately four hours each (including a final report) and perform recordkeeping to include submission of vouchers for reimbursement, estimated at 12 hours annually. Because these actions are undertaken for each field office in which the applicant won funds, the numbers reflect more than the base number of winners. Approximately 208 workplans will be developed as a result of the FY 2000 competition and each will require quarterly reports and recordkeepiing. The specific numbers are as follows:

| Number of respondents | Number of responses per respondent frequency | Total annual responses | Hours per response | Total hours
Applctns | 152 | 1 | 152 | 60 | 9120
Workplan Devlpmnt | 208 | 1 | 208 | 20 | 4160
Qrtly Reports (incl final report) | 208 | 4 | 832 | 6 | 4992
Rcrdkpng | 208 | 12 | 2496 | 2 | 4992
Total |  |  | 3688 |  | 23264

Status of the proposed information collection: Reinstatement.

Authority: The Paperwork Reduction Act of 1995, 44 U.S.C. Chapter 35, as amended.

Dated: April 3, 2001.
Donna M. Abbenante,
Acting General Deputy Assistant Secretary.

[FR Doc. 01-8668 Filed 4-6-01; 8:45 am]

BILLING CODE 4210-29-M